DEPARTMENT OF DEFENSE

Defense Acquisition Regulations System

48 CFR Part 209

Contractor Qualifications

CFR Correction

In Title 48 of the Code of Federal Regulations, Chapter 2 (Parts 201-299), revised as of October 1, 2011, on page 55, in section 209.104-70, paragraph (a) is amended by revising the second sentence to read as follows:

209.104-70 Solicitation provisions.

(a) * * * Any disclosure that the government of a terrorist country has a significant interest in an offeror or a subsidiary of an offeror shall be forwarded through agency channels to the address at 209.104-1(g)(i)(C).

* * * * *

[FR Doc. 2012-23905 Filed 9-26-12; 8:45 am]

BILLING CODE 1505-01-D